DEPARTMENT OF DEFENSE

Office of the Secretary

[DOD-2006-0S-0216]

Limitations on Terms of Consumer Credit Extended to Service Members and Dependents

AGENCY: Department of Defense (DOD).

ACTION: Notice with request for comments.

SUMMARY: The Department of Defense is preparing to draft new consumer protection rules. Public Law 109-364, the John Warner National Defense Authorization Act for Fiscal Year 2007, § 670, “Limitations on Terms of Consumer Credit Extended to Service Members and Dependents,” (October 17, 2006), created 10 U.S.C. 987 and requires the Secretary of Defense to prescribe regulations to implement the protections covered by the law. The Department of Defense views this requirement as an opportunity to ensure the protections included in the statute do not create unintended limitations on Service members and their families obtaining favorable credit products. Submitted comments and recommendations will be carefully considered as the regulation is being drafted. An opportunity to review the proposed regulation will be provided during a subsequent period for public comment.

DATES: Comments must be received no later than February 5, 2007.

ADDRESSES: You may submit comments, identified by docket number and or RIN number and title, by any of the following methods:

• Federal eRulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://regulations.gov as they are received without change, including any personal identifiers or contact information.

FOR FURTHER INFORMATION CONTACT: Mr. George Schaefer, (703) 588-0876.

Dated: November 29, 2006.
L.M. Bynum,
Alternate OSD Federal Register Liaison Officer, DoD.

[FR Doc. 06-9518 Filed 12-4-06; 8:45 am]

BILLING CODE 5001-06-M